DEPARTMENT OF TRANSPORTATION

Federal Aviation Administration

Agency Information Collection Activities Under OMB Review

AGENCY: Federal Aviation Administration (FAA), DOT.

ACTION: Notice.

SUMMARY: In compliance with the Paperwork Reduction of 1995 (44 U.S.C. 3501 et seq.), this notice announces that the Information Collection Requests (ICR) abstracted below have been forwarded to the Office of Management and Budget (OMB) for extension of the currently approved collections. The ICR describes the nature of the information collection and the expected burden. The Federal Register Notice with a 60-day comment period soliciting comments on the following collections of information was published on July 13, 2004, page 42078.

DATES: Comments must be submitted on or before November 22, 2004. A comment to OMB is most effective if OMB receives it within 30 days of publication.

FOR FURTHER INFORMATION CONTACT: Judy Street on (202) 267-9895.

SUPPLEMENTARY INFORMATION:

Federal Aviation Administration (FAA)

1. Title: Commuter Operations and General Certification and Operations Requirements.

Type of Request: Extension of a currently approved collection.

OMB Control Number: 2120-00593

Forms(s): FAA Form 8400-6.

Affected Public: A total of 2,445 aircraft operators.

Abstract: The respondents to this information collection are FAR Part 135 and 121 operators. The FAA will use the information collected to ensure compliance and adherence to regulations.

Estimated Annual Burden Hours: An estimated 8,869 hours annually.

2. Title: Criteria for Internet Communications of Aviation Weather, Notice to Airmen, and Aeronautical Data.

Type of Request: Extension of a currently approved collection.

OMB Control Number: 2120-0672.

Forms(s): N/A.

Affected Public: A total of 10 respondents.

Abstract: An Advisory Circular (AC) establishes criteria for Qualified Internet Communications Providers (QICP), who provide access to aviation weather, Notice to Airmen (NOTAM) and aeronautical data via the Public Internet. The AC describes procedures for a provider to become and remain an FAA approved QICP, and the information collected is used to determine the provider's eligibility.

Estimated Annual Burden Hours: An estimated 2,873 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility: the accuracy of the Department's estimates of the burden of the proposed information collection; ways to enhance the quality, utility and clarity of the information to be collected; and ways to minimize the burden of the collection of information on respondents, including the use of automated collection technique or other forms of information technology.

Dated: Issued in Washington, DC on October 18, 2004.
Judith D. Street,
FAA Information Collection Clearance Officer, Standards and Information Division, APF-100.

[FR Doc. 04-23670 Filed 10-21-04; 8:45 am]

BILLING CODE 4910-13-M